DEPARTMENT OF AGRICULTURE

Farm Service Agency

Notice of Request for Extension of a Currently Approved Information Collection

AGENCY: Farm Service Agency, USDA.

ACTION: Notice and request for comments.

SUMMARY: In accordance with the Paperwork Reduction Act of 1995, this notice announces the Farm Service Agency's (FSA) intention to request an extension for a currently approved information collection in support of the program for Guaranteed Farm Loans.

DATES: Comments on this notice must be received by June 6, 2000 to be assured of consideration.

FOR FURTHER INFORMATION CONTACT: Phillip Elder, Senior Loan Officer, USDA, FSA, Farm Loan Programs, Loan Servicing Division, STOP 0523, 1400 Independence Ave. SW, Washington, D.C. 20250-0523, telephone (202) 690-4012 or Electronic mail: phillip_elder@wdc.usda.gov.

SUPPLEMENTARY INFORMATION: Title: (7 CFR part 762) Guaranteed Farm Loans

OMB Control Number: 0560-0155.

Expiration Date of Approval: June 30, 2000.

Type of Request: Extension of a currently approved information collection.

Abstract: Section 309(h) of the Consolidated Farm and Rural Development Act (CONACT) (7 U.S.C. 1929(h)) authorizes the Secretary of Agriculture to guarantee loans for CONACT purposes made by legally authorized lending agencies to eligible farmers and ranchers. FSA must assure that farmers and ranchers, joint operators, farm cooperatives, private domestic corporations and partnerships that are controlled by farmers and ranchers engaged primarily and directly in farming or ranching in the United States comply with CONACT requirements and implementing regulations at 7 CFR part 762 in order to obtain the requested assistance. A guaranteed farm ownership loan applicant, for example, must be a citizen of the United States; own and operate or become the owner and operator of not larger than a family size farm; and be unable to obtain sufficient credit elsewhere at reasonable rates and terms. The reporting and record keeping requirements imposed on the public by regulations set out in 7 CFR part 762 are necessary to administer the Farm Loan Programs (FLP) guaranteed loan program in accordance with the statutory requirements listed above and are consistent with commonly performed lending practices. Periodic collection of information after loans are made is necessary to protect the Government's financial interest. The information is stored in the FSA county office loan files or state office lender files.

Estimate of Burden: Public reporting for this collection of information is estimated to average 46 minutes per response.

Respondents: Individuals or households, businesses or other for profits, and farms.

Estimated Number of Respondents: 14,500.

Estimated Number of Responses per Respondent: 20.24.

Estimated Number of Responses: 293,538.

Estimated Total Annual Burden on Respondents: 226,935 hours.

Comments are invited on: (a) Whether the proposed collection of information is necessary for the proper performance of the functions of the subject Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments should be sent to the Desk Office for Agriculture, Office of Information and Regulatory Affairs, Office of Management and Budget, Washington, D.C. 20503 and to Phillip Elder, Senior Loan Officer, USDA, FSA, Farm Loan Programs, Loan Servicing Division, 1400 Independence Avenue, SW, STOP 0523, Washington, D.C. 20250-0523.

Comments regarding paperwork burden will be summarized and included in the request for OMB approval. All comments will also become a matter of public record.

Signed at Washington, D.C., on March 31, 2000.
Keith Kelly,
Administrator, Farm Service Agency.

[FR Doc. 00-8679 Filed 3-6-00; 8:45 am]

BILLING CODE 3410-05-P